CHEMICAL SAFETY AND HAZARD INVESTIGATION BOARD

Sunshine Act Meeting

TIME AND DATE: January 29, 2020, 1:00 p.m. EDT.

PLACE: U.S. Chemical Safety Board, 1750 Pennsylvania Ave. NW, Suite 910, Washington, DC 20006.

STATUS: Open to the public.

MATTERS TO BE CONSIDERED: The Chemical Safety and Hazard Investigation Board (CSB) will convene a public meeting on Wednesday, January 29, 2020, at 1:00 p.m. EDT in Washington, DC, at the CSB offices located at 1750 Pennsylvania Avenue NW, Suite 910. The Board will discuss open investigations, the status of audits from the Office of the Inspector General, and financial and organizational updates. The Board plans to release a new safety video focusing on the 2017 fatal hot work incident at the Packaging Corporation of America (PCA) facility in Deridder, LA.

Additional Information: The meeting is free and open to the public. If you require a translator or interpreter, please notify the individual listed below as the “Contact Person for Further Information,” at least three business days prior to the meeting.

A conference call line will be provided for those who cannot attend in person. Please use the following dial-in number to join the conference:

Audience members should use the following dial-in numbers to join the conference:

1 (800) 697-5978 Audience US Toll Free

1 (630) 691-2750 Audience US Toll

Passcode: 7898 239#

The CSB is an independent federal agency charged with investigating incidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment: The time provided for public statements will depend upon the number of people who wish to speak. Speakers should assume that their presentations will be limited to three minutes or less, but commenters may submit written statements for the record.

Contact Person for Further Information: Hillary Cohen, Communications Manager, at public@csb.gov or (202) 446-8094. Further information about this public meeting can be found on the CSB website at: www.csb.gov.

Dated: January 23, 2020.
Raymond C. Porfiri,
Deputy General Counsel, Chemical Safety and Hazard Investigation Board.

[FR Doc. 2020-01490 Filed 1-24-20; 11:15 am]

BILLING CODE 6350-01-P